DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2015, through August 31, 2015. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: September 24, 2015.
James Macrae,
Acting Administrator.

List of Petitions Filed

1. Denise Lee, Denver, Colorado, Court of Federal Claims No: 15-0823V.

2. Sharon Roberts, Philadelphia, Pennsylvania, Court of Federal Claims No: 15-0825V.

3. Mary Ponsness, Moses Lake, Washington, Court of Federal Claims No: 15-0826V.

4. David Ponsness, Moses Lake, Washington, Court of Federal Claims No: 15-0827V.

5. Bruce Tuthill, Coral Springs, Florida, Court of Federal Claims No: 15-0828V.

6. Cara Criscione, Rochester, New York, Court of Federal Claims No: 15-0829V.

7. Nicole Will, Herington, Kansas, Court of Federal Claims No: 15-0830V.

8. Catherine A. Ferdetta, Trenton, New Jersey, Court of Federal Claims No: 15-0835V.

9. Dorothy Bundrick, Columbia, South Carolina, Court of Federal Claims No: 15-0836V.

10. Caitlyn Hope Redwine, Marietta, Georgia, Court of Federal Claims No: 15-0839V.

11. Kaitlin Ripple, Port Lavaca, Texas, Court of Federal Claims No: 15-0840V.

12. Kelly Rupert, West Newton, Pennsylvania, Court of Federal Claims No: 15-0841V.

13. Gloria Keyes, Lanoka Harbor, New Jersey, Court of Federal Claims No: 15-0845V.

14. Anne Becknell, Sun City West, Arizona, Court of Federal Claims No: 15-0846V.

15. Sheila Goins, Washington, District of Columbia, Court of Federal Claims No: 15-0848V.

16. Eric Hoegner, Cleveland, Ohio, Court of Federal Claims No: 15-0849V.

17. Jennifer Hendricks, Montpelier, Idaho, Court of Federal Claims No: 15-0850V.

18. Katilyn Wright, Baraboo, Wisconsin, Court of Federal Claims No: 15-0851V.

19. Mark Kerridge, Casper, Wyoming, Court of Federal Claims No: 15-0852V.

20. Beverly L. Persley, Georgetown, Kentucky, Court of Federal Claims No: 15-0853V.

21. Janelle Current, Grimes, Iowa, Court of Federal Claims No: 15-0854V.

22. Marixsa Ruth, Allentown, Pennsylvania, Court of Federal Claims No: 15-0855V.

23. Charles Jarrett, Folsom, California, Court of Federal Claims No: 15-0856V.

24. Jocelyn Ford on behalf of Juanita A. White, Detroit, Michigan, Court of Federal Claims No: 15-0857V.

25. Regina Todd, Washington, District of Columbia, Court of Federal Claims No: 15-0860V.

26. Chelsea L. Davis, Dallas, Texas, Court of Federal Claims No: 15-0861V.

27. Rebecca Padilla, Highland, California, Court of Federal Claims No: 15-0862V.

28. Howard Margulies, North Easton, Massachusetts, Court of Federal Claims No: 15-0863V.

29. Kenneth Bitticks, Encino, California, Court of Federal Claims No: 15-0864V.

30. Georgette Taylor, Denton, Texas, Court of Federal Claims No: 15-0865V.

31. Michael Zippelli, Vienna, Virginia, Court of Federal Claims No: 15-0866V.

32. David Mikkelson, Vienna, Virginia, Court of Federal Claims No: 15-0867V.

33. Cheryl Hines on behalf of A.S., Carthage, North Carolina, Court of Federal Claims No: 15-0868V.

34. Stacy Poulignot-Gartner, Kansas City, Missouri, Court of Federal Claims No: 15-0869V.

35. Leah Tyrell, Buffalo, New York, Court of Federal Claims No: 15-0870V.

36. Vivian Sicherman, Fresh Meadows, New York, Court of Federal Claims No: 15-0871V.

37. Cheryl Pedraza, Fort Worth, Texas, Court of Federal Claims No: 15-0874V.

38. Sheryl Strom, Denver, Colorado. Court of Federal Claims No: 15-0875V.

39. Dorothy Shepard, Brick, New Jersey, Court of Federal Claims No: 15-0879V.

40. Jaclyn Rene Bales on behalf of J. B. A., Phoenix, Arizona, Court of Federal Claims No: 15-0882V.

41. Sondra Boschert on behalf of Elmer Joseph Boschert, Jr., Deceased, Calhoun, Georgia, Court of Federal Claims No: 15-0883V.

42. Christine Redlinger, Coatesville, Pennsylvania, Court of Federal Claims No: 15-0886V.

43. Sydney P. Jensen, Mesa, Arizona, Court of Federal Claims No: 15-0887V.

44. Irene Akahi, Las Vegas, Nevada, Court of Federal Claims No: 15-0888V.

45. Jason Clubb, Winston Salem, North Carolina, Court of Federal Claims No: 15-0891V.

46. Lia Silveira Craft, Seattle, Washington, Court of Federal Claims No: 15-0892V.

47. David Engelman, Springfield, Missouri, Court of Federal Claims No: 15-0893V.

48. Leo J. Jerome, Utica, Michigan, Court of Federal Claims No: 15-0894V.

49. Jose Gabalda, Mount Airy, North Carolina, Court of Federal Claims No: 15-0895V.

50. Efraim Kamara, Overland Park, Kansas, Court of Federal Claims No: 15-0896V.

51. Emily Dworkin, Urbana, Illinois, Court of Federal Claims No: 15-0897V.

52. Michael Vanderpoel, Lancaster, Pennsylvania, Court of Federal Claims No: 15-0899V.

53. Jeanette Stancarone, Staten Island, New York, Court of Federal Claims No: 15-0901V.

54. Eubert Victorino, Chicago, Illinois, Court of Federal Claims No: 15-0902V.

55. Shabnam N. Ranjbar, Chapel Hill, North Carolina, Court of Federal Claims No: 15-0905V.

56. James O. Jones, Jr., Nashville, Tennessee, Court of Federal Claims No: 15-0906V.

57. Zania Lewis, New Orleans, Louisiana, Court of Federal Claims No: 15-0907V.

58. Daniel Divack, Great Neck, New Jersey, Court of Federal Claims No: 15-0908V.

59. Dennis Carlson, Sandy, Utah, Court of Federal Claims No: 15-0909V.

60. Timothy Miremont, Baton Rouge, Louisiana, Court of Federal Claims No: 15-0910V.

61. Irma Scott, Labelle, Florida, Court of Federal Claims No: 15-0911V.

62. Patricia M. White, Mountain City, Tennessee, Court of Federal Claims No: 15-0917V.

63. Craig John Burchianti on behalf of A. B., Brooklyn, New York, Court of Federal Claims No: 15-0918V.

64. William Allen Jackson, Riverside, California, Court of Federal Claims No: 15-0919V.

65. Victoria Lee, Richmond, California, Court of Federal Claims No: 15-0920V.

66. Vanessa Gonzalez, Washington, District of Columbia, Court of Federal Claims No: 15-0921V.

67. Judith Rutschman, Memphis, Tennessee, Court of Federal Claims No: 15-0925V.

68. Sarah Henley, Scotts Valley, California, Court of Federal Claims No: 15-0927V.

69. Ricardo Galinato, Washington, District of Columbia, Court of Federal Claims No: 15-0928V.

70. Michael C. Puckett, Sr. on behalf of Amanda Nicole Puckett, Deceased, Orland Park, Illinois, Court of Federal Claims No: 15-0929V.

71. James Scamman, Kansas City, Missouri, Court of Federal Claims No: 15-0930V.

72. Hans Varblow, Livonia, Michigan, Court of Federal Claims No: 15-0931V.

73. Katie Rice, Randolph, Vermont, Court of Federal Claims No: 15-0932V.

74. Joyce Winterfeld, Willowbrook, Illinois, Court of Federal Claims No: 15-0933V.

75. Tyrone Coyle, Mandeville, Louisiana, Court of Federal Claims No: 15-0934V.

76. Jennifer Siekierski, Rochester, New York, Court of Federal Claims No: 15-0936V.

77. Keith Saunders, Somers Point, New Jersey, Court of Federal Claims No: 15-0939V.

78. Lewis Steven Beckham, Holmes Beach, Florida, Court of Federal Claims No: 15-0940V.

79. Lornette Amelia Lewis, Birmingham, Alabama, Court of Federal Claims No: 15-0941V.

80. Leigha Romig, Richmond, Virginia, Court of Federal Claims No: 15-0942V.

81. Jeffery Miller, Boston, Massachusetts, Court of Federal Claims No: 15-0943V.

82. Kelly Ledford, Philadelphia, Pennsylvania, Court of Federal Claims No: 15-0944V.

83. Sanjuanita Kelly, Philadelphia, Pennsylvania, Court of Federal Claims No: 15-0947V.

84. Alexander Rydell, Fargo, North Dakota, Court of Federal Claims No: 15-0948V.

85. Barbara Lykins, Shawnee Mission, Kansas, Court of Federal Claims No: 15-0951V.

[FR Doc. 2015-24951 Filed 9-30-15; 8:45 am]

BILLING CODE 4165-15-P